DEPARTMENT OF JUSTICE

Notice of Lodging of Consent Decree Under the Comprehensive Environmental Response, Compensation, and Liability Act (“CERCLA”)

Under the policy set out at 28 CFR 50.7, notice is hereby given that on February 7, 2008, the United States lodged with the United States District Court for the District of Montana a proposed consent decree (“Consent Decree”) in the case of United States v. Atlantic Richfield Company, et al., Civil Action No. CV-89-39-BU-SEH. The Consent Decree pertains primarily to the Clark Fork River Operable Unit (the “Clark Fork Site”) in southwestern Montana. The settlement would resolve the claims brought by the United States against the Atlantic Richfield Company under Section 107 of the Comprehensive Environmental Response, Compensation and Liability Act of 1980, as amended (“CERCLA”), 42 U.S.C. 9607, for the recovery of costs incurred and to be incurred in responding to releases and threatened releases of hazardous substances at the Clark Fork Site. Under the terms of the proposed Consent Decree, Atlantic Richfield will provide funding to implement EPA's cleanup plan for the Clark Fork Site and reimburse costs incurred by EPA in responding to contamination at the Clark Fork Site. The proposed Consent Decree will also, among other things, require Atlantic Richfield to: reimburse the U.S. National Park Service for costs incurred by the National Park Service in responding to contamination at the Grant-Kohrs Ranch National Historic Site, which is a National Park within the geographic boundary of the Clark Fork Site; pay the National Park Service and the U.S. Bureau of Land Management for natural resource damages restoration work at the Grant Kohrs Ranch and at certain property owned by the U.S. Bureau of Land Management within the Clark Fork Site; and pay the State of Montana for restoration work that the State plans to conduct at the Clark Fork Site and at two other Superfund sites in and near Anaconda and Butte, Montana.

The Department of Justice will receive comments relating to the proposed Consent Decree for a period of sixty (60) days from the date of this publication. Comments should be addressed to the Assistant Attorney General, Environment and Natural Resources Division, and either e-mailed to pubcomment-ees.enrd@usdoj.gov or mailed to P.O. Box 7611, U.S. Department of Justice, Washington, DC 20044-7611, and should refer to United States v. Atlantic Richfield, DJ Ref. No. 90-11-2-430.

The proposed Consent Decree may be examined at the office of the United States Attorney for the District of Montana, 2929 Third Avenue North, Suite 400, Billings, Montana 59101, and at the U.S. EPA Region VIII Montana Office, Federal Building, 10 West 15th Street, Suite 3200, Helena, Montana 59624. During the public comment period, the proposed Consent Decree may also be examined on the following Department of Justice Web site: http://www.usdoj.gov/enrd/Consent_Decrees.html. In addition, a copy of the Consent Decree may be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, please enclose a check payable to the U.S. Treasury in the amount of $41.75 (25 cents per page reproduction cost) for the Consent Decree, plus $188.00 if you want a copy of the appendices to the Consent Decree and $8.75 for a copy of a related consent decree between the State of Montana and the Atlantic Richfield Company regarding the Clark Fork, Anaconda, and Butte Sites.

Robert Brook,
Assistant Section Chief, Environmental Enforcement Section, Environment and Natural Resources Division.

[FR Doc. E8-2547 Filed 2-11-08; 8:45 am]

BILLING CODE 4410-CW-P